INTERNATIONAL TRADE COMMISSION

[Investigation No. 332-427]

U.S. Market Conditions for Certain Wool Articles

AGENCY: United States International Trade Commission.

ACTION: In accordance with the provisions of the Paperwork Reduction Act of 1995 (44 U.S.C. Chapter 35), the Commission has submitted a request for emergency processing for review and clearance of questionnaires to the Office of Management and Budget (OMB). The Commission has requested OMB approval of this submission by COB April 2, 2001.

EFFECTIVE DATE: March 13, 2001.

PURPOSE OF INFORMATION COLLECTION: The forms are for use by the Commission in connection with investigation No. 332-427, U.S. Market Conditions for Certain Wool Articles, instituted under the authority of section 332(g) of the Tariff Act of 1930 (19 U.S.C. 1332(g)). This investigation was requested by the United States Trade Representative (USTR). The Commission expects to deliver the results of its investigation to the USTR in two annual reports, the first of which is due by September 17, 2001, and the second, September 16, 2002.

Summary of Proposal

(1) Number of forms submitted: 4

(2) Title of form: Questionnaire for U.S. Producers of Worsted Wool Fabrics; Questionnaire for U.S. Purchasers of Worsted Wool Fabrics; Questionnaire for U.S. Importers of Worsted Wool Fabrics; Questionnaire for U.S. Producers and Purchasers of Combed Wool Yarn.

(3) Type of request: new

(4) Frequency of use: Two annual data collections, scheduled for 2001 and 2002.

(5) Description of respondents: U.S. producers, purchasers, and importers of worsted wool fabrics, and U.S. producers and purchasers of combed wool yarn.

(6) Estimated number of respondents: 79 (producers, purchasers, and importers)

(7) Estimated total number of hours to complete the forms: 1,700 hours

(8) Information obtained from the form that qualifies as confidential business information will be so treated by the Commission and not disclosed in a manner that would reveal the individual operations of a firm.

Additional Information or Comment

Copies of the forms and supporting documents may be obtained from Kim Freund (202-708-5402; kfreund@usitc.gov) of the Office of Industries. Comments about the proposals should be directed to the Office of Management and Budget, Office of Information and Regulatory Affairs, Room 10102 (Docket Library), Washington, DC 20503, ATTENTION: Docket Librarian. All comments should be specific, indicating which part of the questionnaire is objectionable, describing the concern in detail, and including specific suggested revisions or language changes. Copies of any comments should be provided to Robert Rogowsky, Director, Office of Operations, U.S. International Trade Commission, 500 E Street SW, Washington, DC 20436, who is the Commission's designated Senior Official under the Paperwork Reduction Act.

Hearing impaired individuals are advised that information on this matter can be obtained by contacting our TDD terminal (telephone No. 202-205-1810). General information concerning the Commission may also be obtained by accessing its Internet server (http://www.usitc.gov). The public record for this investigation may be viewed on the Commission's electronic docket (EDIS-ON-LINE) at http://dockets.usitc.gov/eol/public.

Issued: March 14, 2001.
By order of the Commission.
Donna R. Koehnke,
Secretary.

[FR Doc. 01-7018 Filed 3-20-01; 8:45 am]

BILLING CODE 7020-02-P